DEPARTMENT OF COMMERCE

National Oceanic and Atmospheric Administration

Notice of Availability of the Final Reserve Operations Plan for the Northwestern Hawaiian Islands Coral Reef Ecosystem Reserve

AGENCY: National Marine Sanctuary Program (NMSP), National Ocean Service (NOS), National Oceanic and Atmospheric Administration (NOAA) Department of Commerce (DOC).

ACTION: Notice; correction.

SUMMARY: The National Oceanic and Atmospheric Administration (NOAA) announcement of the availability of the Final Reserve Operations (ROP) Plan for the Northwestern Hawaiian Islands Coral Reef Ecosystem Reserve (Reserve) appeared in the Federal Register dated October 15, 2004 (69 FR 199), pages 61205-61207. The document contained an incorrect point of contact for information. In addition, the ROP is not yet available.

FOR FURTHER INFORMATION CONTACT: Vicki Wedell, 301-713-3125, extension 137.

Correction

In the Federal Register of October 15, 2004, in FR Doc. 04-23165, on page 61205, in the second column, correct the FOR FURTHER INFORMATION CONTACT caption to read:

FOR FURTHER INFORMATION CONTACT: Malia Chow, (808) 397-2660, nwhi@noaa.gov.

In the same notice, on page 61205, in the second column, add a DATES caption to read:

DATES: The date of the release of the final ROP for distribution to the public will be announced when available in the Federal Register.

Dated: November 3, 2004.
Daniel J. Basta,
Director, National Marine Sanctuary Program, National Ocean Service, National Oceanic Atmospheric Administration.

[FR Doc. 04-25108 Filed 11-9-04; 8:45 am]

BILLING CODE 3510-JE-P